DEPARTMENT OF ENERGY

Federal Energy Regulatory Commission

Combined Notice of Filings #2

Take notice that the Commission received the following electric rate filings:

Docket Numbers: ER17-2420-001.

Applicants: Alcoa Power Generating Inc.

Description: Tariff Amendment: Amendment to Supplemental TSA to be effective 7/1/2016.

Filed Date: 10/10/17.

Accession Number: 20171010-5214.

Comments Due: 5 p.m. ET 10/31/17.

Docket Numbers: ER18-49-000.

Applicants: Arizona Public Service Company.

Description: § 205(d) Rate Filing: Service Agreement Recollation to be effective 10/10/2017.

Filed Date: 10/10/17.

Accession Number: 20171010-5250.

Comments Due: 5 p.m. ET 10/31/17.

Docket Numbers: ER18-50-000.

Applicants: Arizona Public Service Company.

Description: § 205(d) Rate Filing: Administrative Filing Amendment for ER17-2379-000 to be effective 8/30/2017.

Filed Date: 10/10/17.

Accession Number: 20171010-5265.

Comments Due: 5 p.m. ET 10/31/17.

Docket Numbers: ER18-51-000.

Applicants: PJM Interconnection, L.L.C.

Description: § 205(d) Rate Filing: Interconnection Service Agreement No. 3808, Queue No. AB2-050 to be effective 9/7/2017.

Filed Date: 10/10/17.

Accession Number: 20171010-5285.

Comments Due: 5 p.m. ET 10/31/17.

Docket Numbers: ER18-52-000.

Applicants: PJM Interconnection, L.L.C.

Description: § 205(d) Rate Filing: Original Service Agreement No. 4795; Queue AC2-139 (WMPA) to be effective 9/8/2017.

Filed Date: 10/10/17.

Accession Number: 20171010-5291.

Comments Due: 5 p.m. ET 10/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2017.
Nathaniel J. Davis, Sr.,
Deputy Secretary.

[FR Doc. 2017-22279 Filed 10-13-17; 8:45 am]

BILLING CODE 6717-01-P